DEPARTMENT OF ENERGY

Federal Energy Regulatory Commission

Combined Notice of Filings #2

Take notice that the Commission received the following electric rate filings:

Docket Numbers: ER11-1858-004; ER11-1859-003.

Applicants: NorthWestern Corporation, Montana Generation, LLC.

Description: Triennial Updated Market Power Analysis for the Central Region of NorthWestern Corporation and Montana Generation, LLC.

Filed Date: 12/30/14.

Accession Number: 20141230-5201.

Comments Due: 5 p.m. ET 3/2/15.

Docket Numbers: ER13-64-003.

Applicants: PacifiCorp.

Description: Compliance filing per 35: OATT Order 1000 Fourth Regional Compliance Filing to be effective 10/1/2013.

Filed Date: 12/30/14.

Accession Number: 20141230-5179.

Comments Due: 5 p.m. ET 1/20/15.

Docket Numbers: ER13-65-003.

Applicants: Deseret Generation & Transmission Co-operative, Inc.

Description: Compliance filing per 35: OATT Order No. 1000 Fourth Regional Compliance Filing to be effective 10/31/2013.

Filed Date: 12/30/14.

Accession Number: 20141230-5135.

Comments Due: 5 p.m. ET 1/20/15.

Docket Numbers: ER13-127-004.

Applicants: Idaho Power Company.

Description: Compliance filing per 35: OATT Order No. 1000 Fourth Regional Compliance Filing to be effective 10/1/2013.

Filed Date: 12/30/14.

Accession Number: 20141230-5125.

Comments Due: 5 p.m. ET 1/20/15.

Docket Numbers: ER15-281-002.

Applicants: Duke Energy Indiana, Inc.

Description: Tariff Amendment per 35.17(b): Errata to Hoosier Filing to be effective 1/1/2015.

Filed Date: 12/30/14.

Accession Number: 20141230-5089.

Comments Due: 5 p.m. ET 1/20/15.

Docket Numbers: ER15-753-000.

Applicants: J. Aron & Company.

Description: § 205(d) rate filing per 35.13(a)(2)(iii): Revised MBR re Category 1 SE to be effective 12/31/2014.

Filed Date: 12/30/14.

Accession Number: 20141230-5081.

Comments Due: 5 p.m. ET 1/20/15.

Docket Numbers: ER15-754-000.

Applicants: Northern States Power Company, a Minnesota corporation.

Description: § 205(d) rate filing per 35.13(a)(2)(iii): 20141230_NSP MBR Filing to be effective 3/1/2015.

Filed Date: 12/30/14.

Accession Number: 20141230-5107.

Comments Due: 5 p.m. ET 1/20/15.

Docket Numbers: ER15-755-000.

Applicants: Powerex Corp.

Description: § 205(d) rate filing per 35.13(a)(2)(iii): Authorization for MBR Sales of Operating Reserves to NorthWestern to be effective 3/1/2015.

Filed Date: 12/30/14.

Accession Number: 20141230-5139.

Comments Due: 5 p.m. ET 1/20/15.

Docket Numbers: ER15-756-000.

Applicants: Southern California Edison Company.

Description: § 205(d) rate filing per 35.13(a)(2)(iii): Amendment to Extend Terms of Eldorado Co-Tenancy and Communication Agreement to be effective 1/1/2015.

Filed Date: 12/30/14.

Accession Number: 20141230-5142.

Comments Due: 5 p.m. ET 1/20/15.

Docket Numbers: ER15-757-000.

Applicants: Central Maine Power Company.

Description: § 205(d) rate filing per 35.13(a)(2)(iii): Executed Interconnection Agreement with Kennebec Water District to be effective 1/1/2015.

Filed Date: 12/30/14.

Accession Number: 20141230-5159.

Comments Due: 5 p.m. ET 1/20/15.

Docket Numbers: ER15-758-000.

Applicants: PJM Interconnection, L.L.C.

Description: § 205(d) rate filing per 35.13(a)(2)(iii): Revisions to the OATT Schedule 12 Appendices re Annual Allocations to be effective 1/1/2015.

Filed Date: 12/30/14.

Accession Number: 20141230-5184.

Comments Due: 5 p.m. ET 1/20/15.

Docket Numbers: ER15-759-000.

Applicants: Southwest Power Pool, Inc.

Description: § 205(d) rate filing per 35.13(a)(2)(iii): 2969 Associated Electric Cooperative, Inc. NITSA NOA to be effective 12/1/2014.

Filed Date: 12/30/14.

Accession Number: 20141230-5196.

Comments Due: 5 p.m. ET 1/20/15.

Docket Numbers: ER15-760-000.

Applicants: WESTERN ANTELOPE BLUE SKY RANCH A LLC.

Description: Initial rate filing per 35.12 Western Antelope Blue Sky Ranch A LLC MBR Tariff to be effective 2/1/2015.

Filed Date: 12/30/14.

Accession Number: 20141230-5197.

Comments Due: 5 p.m. ET 1/20/15.

Docket Numbers: ER15-761-000.

Applicants: Valley Electric Association, Inc.

Description: § 205(d) rate filing per 35.13(a)(2)(iii): Annual TRBAA Update to be effective 1/1/2015.

Filed Date: 12/30/14.

Accession Number: 20141230-5198.

Comments Due: 5 p.m. ET 1/20/15.

Docket Numbers: ER15-762-000.

Applicants: SIERRA SOLAR GREENWORKS LLC.

Description: Initial rate filing per 35.12 Sierra Solar Greenworks LLC MBR Tariff to be effective 2/1/2015.

Filed Date: 12/30/14.

Accession Number: 20141230-5200.

Comments Due: 5 p.m. ET 1/20/15.

Docket Numbers: ER15-763-000.

Applicants: Southwest Power Pool, Inc.

Description: § 205(d) rate filing per 35.13(a)(2)(iii): Revisions to Attachment AE (MPL)—Allocation of Over-Collected Losses to be effective 4/1/2015.

Filed Date: 12/30/14.

Accession Number: 20141230-5224.

Comments Due: 5 p.m. ET 1/20/15.

Docket Numbers: ER15-764-000.

Applicants: Midcontinent Independent System Operator, Inc.

Description: Midcontinent Independent System Operator, Inc. Request for Approval of Recovery of Charges in Accordance with Schedule 34 (Allocation of Costs Associated with Reliability Penalty Assessments) of the Open Access Transmission, Energy and Operating Reserve.

Filed Date: 12/30/14.

Accession Number: 20141230-5225.

Comments Due: 5 p.m. ET 1/20/15.

Take notice that the Commission received the following public utility holding company filings:

Docket Numbers: PH15-5-000.

Applicants: IIF US Holding 2 GP, LLC.

Description: IIF US Holding 2 GP, LLC submits Notification of Material Change in Facts and Update of FERC 65-A Exemption Notification.

Filed Date: 12/30/14.

Accession Number: 20141230-5115.

Comments Due: 5 p.m. ET 1/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2014.
Nathaniel J. Davis, Sr.,
Deputy Secretary.

[FR Doc. 2014-30947 Filed 1-5-15; 8:45 am]

BILLING CODE 6717-01-P